DEPARTMENT OF JUSTICE

Office of Juvenile Justice and Delinquency Prevention

[OMB Number 1121-0224]

Agency Information Collection Activities: Proposed Collection; Comment Request

ACTION: 60-day notice of information Collection Under Review: National Youth Gang Survey.

The U.S. Department of Justice, Office of Justice Programs, Office of Juvenile Justice and Delinquency Prevention, will be submitting the following information collection request to the Office of Management and Budget (OMB) for review and approval in accordance with the Paperwork Reduction Act of 1995. The proposed information collection is published to obtain comments from the public and affected agencies. Comments are encouraged and will be accepted for “60 days” until August 11, 2009. This process is conducted in accordance with 5 CFR 1320.10.

If you have additional comments, especially on the estimated public burden or associated reponse time, or suggestions, or need a copy of the proposed information collection instrument with instructions or additional information, please contact Mr. Dennis Mondoro, (202) 514-3913, Office of Juvenile Justice and Delinquency Prevention, Office of Justice Programs, U.S. Department of Justice, 810 Seventh Street, NW., Washington, DC 20531.

Written comments and suggestions from the public and affected agencies concerning the proposed collection of information are encouraged. Your comments should address one or more of the following four points:

• Evaluate whether the proposed collection of information is necessary for the proper performance of the function of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology; e.g., permitting electronic submission of responses.

Overview of this information collection:

1. Type of Information Collection: Extension of a currently approved collection.

2. Title of the Form/Collection: National Youth Gang Survey.

3. Agency form number, if any, and the applicable component of the U.S. Department of Justice sponsoring the collection: Office of Juvenile Justice and Delinquency Prevention, Office of Justice Programs, United States Department of Justice.

4. Affected public who will be asked or required to respond, as well as a brief abstract:

Primary: Local, State, or tribal law enforcement agencies.

Other: None.

Abstract: This collection will gather information related to youth and their activities for research and assessment purposes.

5. An estimate of the total number of respondents and the amount of time estimated for an average respondent to respond: It is estimated that 2,100 respondents will take ten minutes each to complete the survey.

6. An estimate of the total public burden (in hours) associated with the collection: There are an estimated 425 total annual burden hours associated with this collection.

If additional information is required, contact Ms. Lynn Bryant, Department Clearance Officer, United States Department of Justice, Justice Management Division, Policy and Planning Staff, 601 D Street, NW., Washington, DC 20530.

Dated: June 8, 2009.
Lynn Bryant,
Department Clearance Officer, PRA, United States Department of Justice.

[FR Doc. E9-13771 Filed 6-11-09; 8:45 am]

BILLING CODE 4410-18-P